DEPARTMENT OF COMMERCE

International Trade Administration

Application for Duty-Free Entry of Scientific Instrument

Pursuant to section 6(c) of the Educational, Scientific and Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 03-023.

Applicant: University of Missouri—Kansas City, Kansas City, MO 64110.

Instrument: OptoTOP HE 3-D Digitizing System.

Manufacturer: Breuckmann GmbH, Germany.

Intended Use: The instrument is intended to be used to digitally image and measure the skeletal remains and teeth of extant and fossil mammals. Research is aimed to learn more about the patterns and processes of mammalian evolution by studying the three-dimensional form of the skeletal and dental anatomy. The specimens studied will be preserved specimens housed in the collections of various natural history museums. Three-dimensional, digital images will be collected and stored in a digital archive. Using a computer graphics workstation, the images will be subjected to morphometric analyses of variation in size and shape.

Application accepted by Commissioner of Customs: May 20, 2003.

Gerald A. Zerdy,
Program Manager, Statutory Import Programs Staff.

[FR Doc. 03-14777 Filed 6-10-03; 8:45 am]

BILLING CODE 3510-DS-P